Title 3—

The President

Presidential Determination No. 2003-27 of June 30, 2003

Waiving Prohibition on United States Military Assistance to Parties to the Rome Statute Establishing the International Criminal Court

Memorandum for the Secretary of State

Consistent with the authority vested in me by section 2007 of the American Servicemembers' Protection Act of 2002, title II of Public Law 107-206 (22 U.S.C. 7421 et seq.), I hereby determine that:

(1) Gabon, the Gambia, Mongolia, Senegal, Sierra Leone, and Tajikistan have each entered into an agreement with the United States pursuant to Article 98 of the Rome Statute preventing the International Criminal Court from proceeding against U.S. personnel present in such countries and waive the prohibition of section 2007(a) of the American Servicemembers' Protection Act with respect to these countries for as long as such agreement remains in force;

(2) it is important to the national interest of the United States to waive, until November 1, 2003, the prohibition of section 2007(a) with respect to Afghanistan, Djibouti, Democratic Republic of Congo, East Timor, Ghana, Honduras, and Romania, and waive that prohibition with respect to these countries until that date; and

(3) it is important to the national interest of the United States to waive, until January 1, 2004, the prohibition of section 2007(a) with respect to Albania, Bolivia, Bosnia-Herzegovina, Botswana, Former Yugoslav Republic of Macedonia, Mauritius, Nigeria, Panama, and Uganda, and waive that prohibition with respect to these countries until that date. You are authorized and directed to report this determination to the Congress, and to arrange for its publication in the Federal Register.

B

THE WHITE HOUSE,

Washington, June 30, 2003.

[FR Doc. 03-17776

Filed 7-10-03; 8:45 am]

Billing code 3195-01-P